INTERNATIONAL TRADE COMMISSION

[USITC SE-11-022]

Sunshine Act Meeting Notice

AGENCY HOLDING THE MEETING: United States International Trade Commission.

TIME AND DATE: August 26, 2011 at 11 a.m.

PLACE: Room 101, 500 E Street, SW., Washington, DC 20436. Telephone: (202) 205-2000.

STATUS: Open to the public.

Matters To Be Considered

1. Agendas for future meetings: none.

2. Minutes.

3. Ratification List.

4. Vote in Inv. No. 731-TA-1189 (Preliminary) (Large Power Transformers from Korea). The Commission is currently scheduled to transmit its determination to the Secretary of Commerce on or before August 29, 2011; Commissioners' opinions are currently scheduled to be transmitted to the Secretary of Commerce on or before September 6, 2011.

5. Outstanding action jackets: none.

In accordance with Commission policy, subject matter listed above, not disposed of at the scheduled meeting, may be carried over to the agenda of the following meeting.

By order of the Commission.
Issued: August 16, 2011.
William R. Bishop,
Hearings and Meetings Coordinator.

[FR Doc. 2011-21189 Filed 8-16-11; 11:15 am]

BILLING CODE 7020-02-P